DEPARTMENT OF THE INTERIOR

Bureau of Land Management

[AK-910-1310PP-ARAC]

Notice of Public Meeting, Alaska Resource Advisory Council

AGENCY: Bureau of Land Management, Alaska State Office, Interior.

ACTION: Notice of public meeting.

SUMMARY: In accordance with the Federal Land Policy and Management Act (FLPMA) and the Federal Advisory Committee Act of 1972 (FACA), the U.S. Department of the Interior, Bureau of Land Management (BLM) Alaska Resource Advisory Council will meet as indicated below. The meeting is open to the public.

DATES: The meeting will be held November 13-14, 2007, at the Westmark Fairbanks Hotel and Conference Center, 813 Noble Street, Fairbanks, Alaska. The November 13 meeting begins at 1 p.m. and the November 14 meeting starts at 8 a.m. The council will accept public comment on November 14 at 10 a.m.

The public may give verbal comments on agenda items during the public comment period on November 14. Depending on the number of people wishing to comment, the time for individual comments may be limited.

The public may also present written comments to the Council. Before including your address, phone number, e-mail address, or other personal identifying information in your comment, be aware that your entire comment—including your personal identifying information—may be made publicly available at any time. While you may ask the BLM in your comment to withhold your personal identifying information from public review, we cannot guarantee that we will be able to do so.

People who plan to attend the meeting and need special assistance, such as sign language interpretation or other reasonable accommodations, should contact the BLM.

FOR FURTHER INFORMATION CONTACT: Danielle Allen, Alaska State Office, 222 W. 7th Avenue #13, Anchorage, AK 99513. Telephone (907) 271-3335 or e-mail Danielle_Allen@ak.blm.gov.

SUPPLEMENTARY INFORMATION: The 15-member Council advises the Secretary of the Interior, through the Bureau of Land Management, on a variety of planning and management issues associated with public land management in Alaska. At this meeting, topics planned for discussion include:

• Fire Season Closeout

• Invasive Species

• Resource Management Planning

• Land Conveyance Program Update

• 17(b) Easement Management

• Other topics the Council may raise

Dated: October 5, 2007.
Thomas P. Lonnie,
State Director.

[FR Doc. E7-20124 Filed 10-11-07; 8:45 am]

BILLING CODE 4310-JA-P